ENVIRONMENTAL PROTECTION AGENCY

40 CFR Part 80

[EPA-HQ-OAR-2011-0542; FRL-9642-3]

RIN 2060-AR07

Regulation of Fuels and Fuel Additives: Identification of Additional Qualifying Renewable Fuel Pathways Under the Renewable Fuel Standard Program

AGENCY: Environmental Protection Agency (EPA).

ACTION: Withdrawal of direct final rule.

SUMMARY: EPA published a direct final rule on January 5, 2012 to amend the Renewable Fuel Standard program regulations. Because EPA received adverse comment, we are withdrawing the direct final rule.

DATES: Effective March 5, 2012, EPA withdraws the direct final rule published at 77 FR 700, on January 5, 2012.

FOR FURTHER INFORMATION CONTACT: Vincent Camobreco, Office of Transportation and Air Quality (MC6401A), Environmental Protection Agency, 1200 Pennsylvania Ave. NW., Washington, DC 20460; telephone number: (202) 564-9043; fax number: (202) 564-1686; email address: camobreco.vincent@epa.gov.

SUPPLEMENTARY INFORMATION: EPA published a direct final rule on January 5, 2012 (77 FR 700) to amend the Renewable Fuel Standard program regulations. The amendments would have expanded Table 1 of § 80.1426 to identify additional renewable fuel production pathways and pathway components that could be used in producing qualifying renewable fuel under the Renewable Fuel Standard program. We stated in that direct final rule that if we received adverse comment by February 6, 2012, that we would publish a timely withdrawal in the Federal Register. We subsequently received adverse comment on several of the changes included in the revised Table 1 of § 80.1426. Since the regulatory amendment in the direct final rule was a single Table including all changes, withdrawal based on the adverse comments we have received requires withdrawal of the entire revised Table. EPA intends to address all comments in a subsequent final action, which will be based on the parallel proposed rule also published on January 5, 2012 (77 FR 462).

As stated in the direct final rule and the parallel proposed rule, we will not institute a second comment period on this action.

Dated: February 27, 2012.
Lisa P. Jackson,
Administrator.

Accordingly, the regulatory amendments published on January 5, 2012 (77 FR 700) are withdrawn as of March 5, 2012.

[FR Doc. 2012-5256 Filed 3-2-12; 8:45 am]

BILLING CODE 6560-50-P